DEPARTMENT OF THE INTERIOR

Bureau of Land Management

[16X L1109AF LLUTW0000000 LR14400000.ET0000; UTU-88639 24 1 A]

Notice of Proposed Withdrawal for Simpson Springs Recreation Management Area and Historic Site and Opportunity for a Public Meeting; Utah

AGENCY: Bureau of Land Management, Interior.

ACTION: Notice.

SUMMARY: On behalf of the Bureau of Land Management (BLM), the Assistant Secretary of the Interior for Land and Minerals Management proposes to withdraw, subject to valid existing rights, 747.10 acres of public land from settlement, sale, location and entry under the public land laws, including the United States mining laws, the mineral and geothermal leasing laws, and disposal under the Materials Act of 1947, for a period of 20 years. The proposed withdrawal is needed to protect the unique recreational, historical, and visual resources, and the Federal financial investment at the Simpson Springs Recreation Management Area (SSRMA) and Historic Site in Tooele County, Utah. This notice temporarily segregates the land for up to 2 years from settlement, sale, location and entry under the public land laws, including the United States mining laws, the mineral and geothermal leasing laws, and disposal under the Material Act of 1947, while the application is processed. This notice also gives an opportunity to comment on or request a public meeting in connection with the proposed withdrawal.

DATES: Comments and public meeting requests must be received on or before October 11, 2016.

ADDRESSES: Comments and meeting requests should be sent to the Utah State Director, BLM, 440 West 200 South, Suite 500, Salt Lake City, Utah 84101-1345.

FOR FURTHER INFORMATION CONTACT: Shauna Derbyshire, BLM, Utah State Office, 801-539-4132, sderbyshire@blm.gov.

Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The BLM filed an application requesting the Assistant Secretary for Land and Minerals Management to withdraw, subject to valid existing rights, the following described public land from settlement, sale, location and entry under the public land laws, including the United States mining laws, the mineral and geothermal leasing laws, and disposal under the Materials Act of 1947, to protect the unique recreational, historical, and visual resources, and the Federal financial investment at the SSRMA and Historic Site:

Salt Lake Meridian, Utah

T. 9 S., R. 8 W.,

Sec. 7, lot 4, SE¼SW¼, and S½SE¼;

Sec. 17, W½NW¼ and NW¼SW¼;

Sec. 18, lots 1 thru 3, NE¼, E½NW¼, NE1/4SW¼, and N½SE¼.

The area described contains 747.10 acres in Tooele County.

The Assistant Secretary for Land and Minerals Management approved the BLM's petition/application. Therefore, the petition/application constitutes a withdrawal proposal of the Secretary of the Interior (43 CFR 2310.1-3(e)).

The purpose of the proposed withdrawal is to protect the SSRMA's unique recreational opportunities, protect the historic significance of the site and to preserve the visual and natural resources of the area, as well as to ensure that Federal investments used in developing and maintaining the site are protected.

The use of a right-of-way, interagency agreement, cooperative agreement, Special Recreation Management Area designation, or an Area of Critical Environmental Concern designation would not provide adequate protection.

There are no suitable alternative sites available. The historical, visual, and recreational resources are located at the site proposed for withdrawal.

The Simpson Springs has historically been a vital resource of this area. Simpson Springs is within the proposed withdrawal area, as are the developed facilities, which allow the water to be used for recreational, livestock, wildlife and other uses. The BLM has acquired a State of Utah water right, which allows development and use of the water produced by the springs.

Records relating to the application may be examined by contacting the BLM at the above address and phone number.

For a period until October 11, 2016, all persons who wish to submit comments, suggestions, or objections in connection with the proposed withdrawal may present their views in writing to the BLM Utah State Director at the address above. Electronic mail, facsimile, or telephone comments will not be considered properly filed.

Comments, including names and street addresses of respondents, and records relating to the application will be available for public review at the BLM-Utah State Office, 440 West 200 South, Suite 500, Salt Lake City, Utah, during regular business hours. Before including your address, phone number, email address or other personal identifying information in your comments, be advised that your entire comment—including your personal identifying information—may be made publicly available at any time. While you can ask us in your comment to withhold from public review your personal identifying information, we cannot guarantee that we will be able to do so.

Notice is hereby given that an opportunity for a public meeting is afforded in connection with the proposed withdrawal. All interested parties who desire a public meeting for the purpose of being heard on the proposed withdrawal must submit a written request to the BLM State Director at the address indicated above by October 11, 2016. Upon determination by the authorized officer that a public meeting will be held, a notice of the time and place will be published in the Federal Register and a local newspaper at least 30 days before the scheduled date of the meeting.

For a period until July 13, 2018, subject to valid existing rights, the public land described in this notice will be segregated from location and entry under the United States mining laws, the mineral and geothermal leasing laws, and disposal under the Materials Act of 1947, unless the application is denied or canceled or the withdrawal is approved prior to that date.

Licenses, permits, cooperative agreements or discretionary land use authorizations of a temporary nature that would not impact the site may be allowed with the approval of an authorized officer of the BLM during the temporary segregative period.

The application will be processed in accordance with the regulations set forth in 43 CFR 2300.

Jenna Whitlock,
Acting State Director.

[FR Doc. 2016-16560 Filed 7-12-16; 8:45 am]

BILLING CODE 4310-DQ-P